DEPARTMENT OF THE INTERIOR

Bureau of Reclamation

Glen Canyon Dam Adaptive Management Work Group (AMWG), Notice of Meeting

AGENCY: Bureau of Reclamation, Interior.

ACTION: Notice of public meetings.

SUMMARY: The Adaptive Management Program (AMP) was implemented as a result of the Record of Decision on the Operation of Glen Canyon Dam Final Environmental Impact Statement to comply with consultation requirements of the Grand Canyon Protection Act (Pub.L. 102-575) of 1992. The AMP provides an organization and process to ensure the use of scientific information in decision making concerning Glen Canyon Dam operations and protection of the affected resources consistent with the Grand Canyon Protection Act. The AMP has been organized and includes a federal advisory committee (the AMWG), a technical work group (the TWG), a monitoring and research center, and independent review panels. The TWG is a subcommittee of the AMWG and provides technical advice and information for the AMWG to act upon.

Date and Location: The Glen Canyon Dam Technical Work Group will conduct the following conference call:

December 20, 2002. The conference call will begin at 8:00 AM and conclude at 9:00 AM (Mountain time).

Agenda: The purpose of the conference call is to poll the members on two specific motions:

(1) Recommend to the AMWG the specific line item details of the FY 2004 budget, and

(2) Recommend to the AMWG the non-native fish control report prepared by the Non-Native Fish Control Ad Hoc Group.

If there are any members of the public who would like to provide written comments for the TWG to consider, they should provide those to Randall Peterson, Bureau of Reclamation, Upper Colorado Regional Office, 125 South State Street, Room 6107, Salt Lake City, Utah 84138-1147; telephone (801) 524-3758; faxogram (801) 524-3858; e-mail at rpeterson@uc.usbr.gov at least five (5) days prior to the conference call. All comments received will be provided to the TWG members. Copies of the budget and non-native fish documents are available at the following Web site: http://www.uc.usbr.gov/amp/twg/02dec20/mtgt_3_00.html.

To register for the conference call, please contact Linda Whetton at (801) 524-3880 at least two (2) days prior to the call. You will be given the phone number and password at that time.

FOR FURTHER INFORMATION CONTACT: Randall Peterson, telephone (801) 524-3758; faxogram (801) 524-3858; or via e-mail at rpeterson@uc.usbr.gov.

Dated: November 25, 2002.
Randall V. Peterson,
Manager, Adaptive Management and Environmental Resources Division, Upper Colorado Regional Office.

[FR Doc. 02-31170 Filed 12-10-02; 8:45 am]

BILLING CODE 4310-MN-P